DEPARTMENT OF ENERGY

Federal Energy Regulatory Commission

Notice of FERC Commissioner and FERC Staff Attendance at Meeting of Southwest Power Pool Board of Directors and Members Committee, and Meeting of Southwest Power Pool Regional State Committee

April 18, 2005.

The Federal Energy Regulatory Commission hereby gives notice that Commissioners and members of its staff may attend the meeting of the Southwest Power Pool (SPP) Board of Directors and Members Committee noted below, and the meeting of the SPP Regional State Committee noted below. Their attendance is part of the Commission's ongoing outreach efforts.

SPP Regional State Committee Meeting—April 25, 2005, 1 p.m.-5 p.m.

Crowne Plaza Austin Hotel, 500 North IH 35, Austin, TX 78701, 512-480-8181.

SPP Board of Directors and Members Committee Meeting—April 26, 2005, 8 a.m.-2 p.m.

Crowne Plaza Austin Hotel, 500 North IH 35, Austin, TX 78701, 512-480-8181.

The discussions may address matters at issue in the following proceedings:

Docket Nos. RT04-1-000 and ER04-48-000, Southwest Power Pool, Inc.

Docket No. ER05-109-000, Southwest Power Pool, Inc.

Docket No. ER05-652-000, Southwest Power Pool, Inc.

Docket No. ER05-562, Southwest Power Pool, Inc.

Docket No. ER05-666, Southwest Power Pool, Inc.

Docket No. ER05-688, Southwest Power Pool, Inc.

Docket No. EL05-52-000, Entergy Services, Inc.

Docket No. ER05-576-000, Southwest Power Pool, Inc.

These meetings are open to the public.

For more information, contact Tony Ingram, Office of Markets, Tariffs and Rates, Federal Energy Regulatory Commission at (501) 614-4789 or tony.ingram@ferc.gov.

Magalie R. Salas,
Secretary.

[FR Doc. E5-1908 Filed 4-21-05; 8:45 am]

BILLING CODE 6717-01-P